SECURITIES AND EXCHANGE COMMISSION

Sunshine Act Meeting; Federal Register Citation of Previous Announcement: [to be published]

Status: Open Meeting.

Place: 100 F Street, NE., L-002, Auditorium, Washington, DC.

Announcement of Additional Meeting: Open Meeting.

The Commission has scheduled an Open Meeting for Wednesday, January 16, 2008 at 10 a.m., in the Auditorium, Room L-002.

The subject matter of the January 16, 2008 Open Meeting will be:

The Commission will consider whether to approve a proposed rule change submitted by the Chicago Board Options Exchange, Incorporated (“CBOE”) to interpret the “Exercise Right” in Article Fifth(b) of CBOE's Certificate of Incorporation (File No. SR-CBOE-2006-106).

Commissioner Nazareth, as duty officer, determined that no earlier notice of the Open Meeting was possible.

At times, changes in Commission priorities require alterations in the scheduling of meeting items. For further information and to ascertain what, if any, matters have been added, deleted or postponed, please contact:

The Office of the Secretary at (202) 551-5400.

Dated: January 11, 2008.
Nancy M. Morris,
Secretary.

[FR Doc. E8-641 Filed 1-14-08; 8:45 am]

BILLING CODE 8011-01-P